NATIONAL AERONAUTICS AND SPACE ADMINISTRATION

[Notice: (19-022)]

NASA Federal Advisory Committee; Notice of Committee Re-Establishment Pursuant to the Federal Advisory Committee Act

AGENCY: National Aeronautics and Space Administration.

The Administrator of the National Aeronautics and Space Administration (NASA) has determined that the re-establishment of the following advisory committee under the Federal Advisory Committee Act (FACA) is necessary for the conduct of agency business and in the public interest: The NASA Human Exploration and Operations Research Advisory Committee (HEORAC). This determination follows consultation with the Committee Management Secretariat, General Services Administration. The HEORAC was originally established and its charter filed by NASA on January 17, 2017. The HEORAC and its charter expired on January 17, 2019, during the partial shutdown of the U.S. Government.

Name of Federal Advisory Committee: Human Exploration and Operations Research Advisory Committee (HEORAC).

Purpose and Objectives: The purpose of the HEORAC is to provide advice and make recommendations to the Director, Space Life and Physical Sciences Research and Applications Division, Human Exploration and Operations Mission Directorate, NASA Headquarters, on programs, policies, plans, and priorities pertaining to space life and physical sciences research. The HEORAC will function solely as an advisory body and will comply fully with the provisions of FACA.

Membership: HEORAC membership shall consist of individual subject matter experts who will serve as Special Government Employees (unless they are Regular Government Employees). They will be chosen from among academia, industry and government with demonstrated and well-recognized knowledge, expertise and experience in fields relevant to their respective scientific disciplines. The membership will be fairly balanced in terms of points of view represented and functions to be performed. Diversity shall be considered as well.

Duration: The HEORAC is a NASA discretionary committee and is envisioned to be continuing entity subject to charter renewals every two years.

Responsible NASA Official: Dr. Bradley Carpenter, Designated Federal Officer, Human Exploration and Operations Mission Directorate, NASA Headquarters, (202) 358-0826 or brad.carpenter@nasa.gov.

FOR FURTHER INFORMATION CONTACT: Dr. Bradley Carpenter, Designated Federal Officer, Human Exploration and Operations Mission Directorate, NASA Headquarters, (202) 358-0826 or brad.carpenter@nasa.gov.

Patricia Rausch,
Advisory Committee Management Officer, National Aeronautics and Space Administration.

[FR Doc. 2019-08688 Filed 4-29-19; 8:45 am]

BILLING CODE 7510-13-P